UNITED STATES POSTAL SERVICE BOARD OF GOVERNORS

Sunshine Act Meeting

Board Votes To Close July 10, 2007, Meeting

In person and by telephone vote on July 10, 2007, a majority of the members contacted and voting, the Board of Governors voted to close to public observation a meeting held in Washington, DC, via teleconference. The Board determined that prior public notice was not possible.

Items Considered: 1. Strategic Issues.

2. Labor Negotiations Update.

3. Rate Case Update.

4. Financial Update.

5. Personnel Matters and Compensation Issues.

6. Governors' Executive Session—Discussion of prior agenda items and Board Governance.

General Counsel Certification:

The General Counsel of the United States Postal Service has certified that the meeting was properly closed under the Government in the Sunshine Act.

Contact Person for More Information: Requests for information about the meeting should be addressed to the Secretary of the Board, Wendy A. Hocking, at (202) 268-4800.

Wendy A. Hocking,
Secretary.

[FR Doc. 07-3549 Filed 7-17-07; 3:22 pm]

BILLING CODE 7710-12-M